FEDERAL RESERVE SYSTEM

Change in Bank Control Notices; Acquisitions of Shares of a Bank or Bank Holding Company

The notificants listed below have applied under the Change in Bank Control Act (Act) (12 U.S.C. 1817(j)) and § 225.41 of the Board's Regulation Y (12 CFR 225.41) to acquire shares of a bank or bank holding company. The factors that are considered in acting on the applications are set forth in paragraph 7 of the Act (12 U.S.C. 1817(j)(7)).

The public portions of the applications listed below, as well as other related filings required by the Board, if any, are available for immediate inspection at the Federal Reserve Bank(s) indicated below and at the offices of the Board of Governors. This information may also be obtained on an expedited basis, upon request, by contacting the appropriate Federal Reserve Bank and from the Board's Freedom of Information Office at https://www.federalreserve.gov/foia/request.htm. Interested persons may express their views in writing on the standards enumerated in paragraph 7 of the Act.

Comments received are subject to public disclosure. In general, comments received will be made available without change and will not be modified to remove personal or business information including confidential, contact, or other identifying information. Comments should not include any information such as confidential information that would not be appropriate for public disclosure.

Comments regarding each of these applications must be received at the Reserve Bank indicated or the offices of the Board of Governors, Ann E. Misback, Secretary of the Board, 20th Street and Constitution Avenue NW, Washington, DC 20551-0001, not later than July 12, 2024.

A. Federal Reserve Bank of Kansas City (Jeffrey Imgarten, Assistant Vice President) 1 Memorial Drive, Kansas City, Missouri, 64198-0001. Comments can also be sent electronically to KCApplicationComments@kc.frb.org:

1. Troy Soukup, Ellsworth, Kansas; to retain his position as trustee of CSB Bancshares, Inc. Amended Employee Stock Ownership Plan, and thereby indirectly retain control of CSB Bancshares, Inc., and Citizens State Bank and Trust Co., all of Ellsworth, Kansas.

2. The Gwendolyn J. Kingsbury Bank Trust, Gwendolyn J. Kingsbury, as trustee, and Christopher J. Kingsbury, all of Ponca, Nebraska; the Sarah J. Hoesch Bank Trust, Sarah J. Hoesch, as trustee, and Gregory J. McManis and Kristin N. Horst, all of Oregon, Wisconsin; Ryan J. Sprugel, Kearney, Missouri; and Drew C. Sprugel, Kansas City, Missouri; to join the Kingsbury Family Group, a group acting in concert, to retain voting shares of Kingsbury BDC Financial Services, Inc., and thereby indirectly retain voting shares of Bank of Dixon County, both of Ponca, Nebraska.

Board of Governors of the Federal Reserve System.
Michele Taylor Fennell,
Deputy Associate Secretary of the Board.

[FR Doc. 2024-14144 Filed 6-26-24; 8:45 am]

BILLING CODE P